POSTAL SERVICE

Temporary Emergency Committee of the Board of Governors; Sunshine Act Meeting

DATES AND TIMES: June 10, 2015, at 1:30 p.m.

PLACE: Washington, DC, via Teleconference.

STATUS: Committee Votes to Close June 10, 2015, Meeting: By telephone vote on June 10, 2015, members of the Temporary Emergency Committee of the Board of Governors of the United States Postal Service met and voted unanimously to close to public observation its meeting held in Washington, DC, via teleconference. The Committee determined that no earlier public notice was possible.

MATTERS CONSIDERED:

Wednesday, June 10, 2015, at 1:30 p.m.

1. Strategic Issues.

2. Pricing.

GENERAL COUNSEL CERTIFICATION: The General Counsel of the United States Postal Service has certified that the meeting was properly closed under the Government in the Sunshine Act.

CONTACT PERSON FOR MORE INFORMATION: Julie S. Moore, Secretary of the Board, U.S. Postal Service, 475 L'Enfant Plaza SW., Washington, DC 20260-1000, telephone (202) 268-4800.

Julie S. Moore,
Secretary, Board of Governors.

[FR Doc. 2015-14949 Filed 6-16-15; 8:45 am]

BILLING CODE 7710-12-P